DEPARTMENT OF HEALTH AND HUMAN SERVICES

National Institutes of Health

National Center for Complementary & Integrative Health; Amended Notice of Meeting

Notice is hereby given of a change in the meeting of the National Advisory Council for Complementary and Integrative Health, September 19, 2025, 10:00 a.m. to September 19, 2025, 05:00 p.m., National Institutes of Health, DEM 2, 6707 Democracy Boulevard, Bethesda, MD 20892 which was published in the Federal Register on August 5, 90 FR 37532.

This notice is being updated to reflect the new URL for the Open Session of the NCCIH Advisory Council meeting. The open session can be accessed through the following Microsoft Teams Meeting URL link: https://teams.microsoft.com/l/meetup-join/19%3ameeting_MTRhYjRiNDgtMDBhNy00MDJlLWI5OWMtZjE5YmI4NzA1MTI1%40thread.v2/0?context=%7b%22Tid%22%3a%2214b77578-9773-42d5-8507-251ca2dc2b06%22%2c%22Oid%22%3a%225d09e6a6-3cf8-403c-afef-a57964aab263%22%7d.

The event will be recorded and will be made available for viewers to watch using the NIH Videocast URL link https://videocast.nih.gov (Past Events).

The meeting is partially Closed to the public.

Dated: August 6, 2025.
Bruce A. George,
Program Analyst, Office of Federal Advisory Committee Policy.

[FR Doc. 2025-15175 Filed 8-8-25; 8:45 am]

BILLING CODE 4140-01-P